DEPARTMENT OF ENERGY

Federal Energy Regulatory Commission

[Project No. 12123-001]

Quantum Energy Solutions; Notice of Surrender of Preliminary Permit

May 8, 2003.

Take notice that Quantum Energy Solutions, permittee for the proposed Columbia River Jetty Project, has requested that its preliminary permit be terminated. The permit was issued on April 22, 2002, and would have expired on March 31, 2005. The project would have been located on the existing Columbia River Jetty in Clatsop County, Oregon.

The permittee filed the request on April 2, 2003, and the preliminary permit for Project No. 12123 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. 03-12012 Filed 5-13-03; 8:45 am]

BILLING CODE 6717-01-P